DEPARTMENT OF TRANSPORTATION

Federal Aviation Administration

14 CFR Part 71

[Docket No. FAA-2019-0815; Airspace Docket No. 19-ASW-8]

RIN 2120-AA66

Revocation, Amendment, and Establishment of Multiple Air Traffic Service (ATS) Routes Due to the Decommissioning of the Greene County, MS, VOR

AGENCY: Federal Aviation Administration (FAA) DOT.

ACTION: Final rule; withdrawal.

SUMMARY: This action withdraws the final rule published in the Federal Register on August 20, 2020, removing Jet Route J-590, amending VHF Omnidirectional Range (VOR) Federal airways V-11 and V-70, and establishing area navigation (RNAV) routes T-362 and T-365 due to the planned decommissioning of the VOR portion of the Greene County, MS, VOR/Tactical Air Navigation (VORTAC) navigation aid. Unanticipated issues affecting the completion of related VOR Minimum Operational Network (MON) Program instrument procedure amendments and the associated flight inspection activities required to adopt those amendments continue and have made this withdrawal action necessary.

DATES: Effective as of 0901 UTC, March 29, 2021, the final rule published on August 20, 2020 (85 FR 51329), delayed on October 13, 2020 (85 FR 64377), is withdrawn.

FOR FURTHER INFORMATION CONTACT: Colby Abbott, Rules and Regulations Group, Office of Policy, Federal Aviation Administration, 800 Independence Avenue SW, Washington, DC 20591; telephone: (202) 267-8783.

SUPPLEMENTARY INFORMATION:

History

The FAA published a final rule in the Federal Register for Docket No. FAA-2019-0815 (85 FR 51329; August 20, 2020) removing Jet Route J-590, amending VOR Federal airways V-11 and V-70, and establishing RNAV routes T-362 and T-365. The air traffic service (ATS) route actions were accomplished due to the planned decommissioning of the VOR portion of the Greene County, MS, VORTAC. A final rule, delay of effective date was published in the Federal Register for Docket No. FAA-2019-0815 (85 FR 64377; October 13, 2020) to delay the effective date to coincide with the anticipated completion of flight inspection activities associated with related VOR MON program instrument procedure amendments that were necessary to adopt the rule. Unanticipated issues affecting the completion of the related instrument procedure amendments and the associated flight inspection activities required to adopt those amendments have continued. As a result, the Greene County, MS, VOR decommissioning has been slipped to October 10, 2023.

FAA's Conclusions

The FAA has reviewed the Greene County, MS, VOR decommissioning project and determined additional time is required to complete the related instrument procedure amendments and associated flight inspection activities to ensure an efficient implementation and integration with other ongoing VOR MON program activities. Therefore, the final rule is being withdrawn.

The existing ATS routes (J-590, V-11, and V-70) addressed in the final rule remain unchanged and the new RNAV T-routes (T-362 and T-365) are not established.

The FAA will publish a new notice of proposed rulemaking action at a later date, using a new airspace docket number, to coincide with the slipped Greene County, MS, VOR decommissioning now planned for October 5, 2023.

List of Subjects in 14 CFR Part 71

Airspace, Incorporation by reference, Navigation (air).

The Withdrawal

Accordingly, pursuant to the authority delegated to me, the final rule published in the Federal Register on August 20, 2020 (85 FR 51329), FR Doc. 2020-18253, is hereby withdrawn.

Authority: 49 U.S.C. 106(f), 106(g), 40103, 40113, 40120; E.O. 10854; 24 FR 9565, 3 CFR, 1959-1963 Comp., p. 389.

Issued in Washington, DC, on March 24, 2021.
George Gonzalez,
Acting Manager, Rules and Regulations Group.

[FR Doc. 2021-06389 Filed 3-26-21; 8:45 am]

BILLING CODE 4910-13-P